DEPARTMENT OF INTERIOR

Bureau of Land Management

[CO-922-1310-FI]

Notice of Proposed Reinstatements of Terminated Oil and Gas Leases

Pursuant to the provisions of 30 U.S.C. 188(d) and (e), and 43 CFR 3108.2-3(a) and (b)(1), a petition for reinstatement of oil and gas leases, COC 57683,COC57685,COC57975, COC57976 for lands in Garfield county; and COC57969, COC57970, COC57972, COC57973, COC57967, COC57965, COC59138 in Colorado, were timely filed and were accompanied by all the required rentals accruing from the date of termination. The lessee has agreed to the amended lease terms for rentals and royalties at rates of $10.00 per acre, or fraction thereof, per year and 16⅔ percent, respectively. The lessee has paid the required $500 administrative fee and $166 to reimburse the Department for the cost of this Federal Register notice. The lessee has met all the requirements for reinstatement of the leases as set out in section 31(d) and (e) of the Mineral Lands Leasing Act of 1920 (30 U.S.C. 188), and the Bureau of Land Management is proposing to reinstate leases COC 57683 and COC57685,effective March 1, 2002, and leases COC57975, COC57976, COC57969, COC57970, COC57972, COC57973, COC57967, COC57965, COC59138, effective June 1, 2002, subject to the original terms and conditions of the leases and the increased rental and royalty rates cited above.

Beverly A. Derringer,
Chief, Fluid Minerals Adjudication.

[FR Doc. 03-13140 Filed 5-23-03; 8:45 am]

BILLING CODE 4310-JB-P